DEPARTMENT OF THE INTERIOR

Bureau of Land Management

[LLCOS05000 L10100000.PH0000]

Notice of Public Meeting, Southwest Colorado Resource Advisory Council Meeting

AGENCY: Bureau of Land Management, Interior.

ACTION: Public meeting.

SUMMARY: In accordance with the Federal Land Policy and Management Act (FLPMA) and the Federal Advisory Committee Act of 1972 (FACA), the U.S. Department of the Interior, Bureau of Land Management (BLM) Southwest Colorado Resource Advisory Council (RAC) will meet in June, August and October 2010.

DATES: Southwest Colorado RAC meetings will be held on June 4, 2010, in Dolores, Colorado; August 13, 2010, in Gunnison, Colorado; and October 8, 2010, in Ridgway, Colorado.

The meetings will begin at 9 a.m. and adjourn at approximately 4 p.m. A public comment period regarding matters on the agenda will be held at 2:30 p.m.

ADDRESSES: The Southwest Colorado RAC meetings will be held June 4, 2010, at the Anasazi Heritage Center at 27501 Highway 184, Dolores, Colorado 81323; August 13, 2010, at the Holiday Inn Express at 910 E. Tomichi, Gunnison, Colorado; and October 8, 2010, at the Ouray County 4-H Center at 22739 Highway 550, Ridgway, Colorado.

FOR FURTHER INFORMATION CONTACT: Lori Armstrong, BLM Southwest District Manager, 2505 S. Townsend Avenue, Montrose, CO; telephone 970-240-5300; or Erin Curtis, Public Affairs Specialist, 2815 H Road, Grand Junction, CO; telephone 970-244-3097.

SUPPLEMENTARY INFORMATION: The Southwest Colorado RAC advises the Secretary of the Interior, through the BLM, on a variety of public land issues in Colorado. Topics of discussion for all Southwest Colorado RAC meetings may include field manager and working group reports, recreation, fire management, land use planning, invasive species management, energy and minerals management, travel management, wilderness, land exchange proposals, cultural resource management, and other issues as appropriate.

These meetings are open to the public. The public may present written comments to the RACs. Each formal RAC meeting will also have time, as identified above, allocated for hearing public comments. Depending on the number of persons wishing to comment and time available, the time for individual oral comments may be limited.

Dated: April 23, 2010.
Helen M. Hankins,
State Director.

[FR Doc. 2010-10180 Filed 4-30-10; 8:45 am]

BILLING CODE 4310-JB-P